DEPARTMENT OF ENERGY

Federal Energy Regulatory Commission

[Project No. 2351-017]

Public Service Company of Colorado; Notice of Technical Conference

Take notice that a technical conference will be held to discuss the Agreement-in-Principle between the Public Service Company of Colorado, the U.S. Forest Service, and the Colorado Division of Parks and Wildlife filed on September 24, 2012, for the Cabin Creek Pumped Storage Hydroelectric Project No. 2351.

This conference will be held on Wednesday, November 7, 2012, beginning at 9:00 a.m. (MST) via teleconference.

All local, state, and federal agencies, Indian tribes, and other interested parties are invited to participate. There will be no transcript of the conference. Please contact David Turner at (202) 502-6091 or david.turner@ferc.gov by November 1, 2012, to RSVP and for call-in information.

Dated: October 17, 2012.
Kimberly D. Bose,
Secretary.

[FR Doc. 2012-26135 Filed 10-23-12; 8:45 am]

BILLING CODE 6717-01-P